DEPARTMENT OF AGRICULTURE

Forest Service

Information Collection; Request for Comments; Grazing Permit Administration Forms

AGENCY: USDA, Forest Service.

ACTION: Notice; request for comment.

SUMMARY: In accordance with the Paperwork Reduction Act of 1995 (PRA), the Forest Service is seeking comments from all interested individuals and organizations on extension of the currently approved collection for seven grazing permit administration forms that assist in administering grazing permits. These Office of Management and Budget approved forms include (1) FS-2200-1 Refund, Credit or Transfer Application; (2) FS-2200-2 Application for Temporary Grazing or Livestock Use Permit; (3) FS-2200-12 Waiver of Term Grazing Permit; (4) FS-2200-13 Escrow Waiver of Term Grazing Permit Privileges; (5) FS-2200-16 Application for Term Grazing Permit; (6) FS-2200-17 Application for Term Private Land Grazing Permit; and (7) FS-2200-25 Ownership Statement by Corporation or Partnership. The proposed information collection authorization would cover existing forms without revision. The current authorization for the forms covered by Information Collection Number 0596-0003 expires on April 30, 2006.

DATES: Comments must be received in writing on or before January 23, 2006 to be assured of consideration. Comments received after that date will be considered to the extent practicable.

ADDRESSES: Comments concerning this notice should be addressed to the USDA Forest Service, Attn: Director, Rangeland Management Staff, Mail Stop 1103, 1400 Independence Ave., SW., Washington, DC 20250-1153. To ensure timely delivery, review and consideration, it may be preferable to submit comments by electronic mail to RgeID@fs.fed.us (Subject: Grazing Forms); or by facsimile to (202) 205-1096. If comments are sent by electronic means or by facsimile, the public is requested not to send duplicate comments via regular mail.

All comments, including names and addresses when provided, are placed in the record and available for public inspection and copying. The agency cannot confirm receipt of comments.

The public may inspect comments received on these grazing permit administration forms in the Rangeland Management Staff, 3rd Floor, South Wing, Yates Building, 14th and Independence Avenues, Southwest, Washington, DC, between the hours of 8:30 a.m. and 4 p.m. Those wishing to inspect comments are encouraged to call ahead to (202) 205-1460 to facilitate entry into the building.

FOR FURTHER INFORMATION CONTACT: William Perry, Rangeland Management Staff, USDA Forest Service, (202) 205-1454. Individuals who use telecommunication devices for the deaf (TDD) may call the Federal Relay Service (FRS) at 1-800-877-8339, 24 hours a day, every day of the year, including holidays.

SUPPLEMENTARY INFORMATION: Title: Grazing Permit Administration Forms.

OMB Number: 0596-0003.

Expiration Date of Approval: April 30, 2006.

Type of Request: Extension with no revisions.

Abstract: Domestic livestock grazing occurs on approximately 90 million acres of National Forest System (NFS) lands. The Forest Service (FS) issues approximately 7,100 grazing permits. This information collection is required to allow proper administration of the livestock grazing program on NFS lands. This grazing is subject to authorization and administrative oversight by the Forest Service. The information is required for the issuance and administration of grazing permits, including fee collections, as authorized by the Federal Land Policy and Management Act (FLPMA) of 1976, as amended, 43 U.S.C. 1700 et seq. and USDA regulations at 36 CFR 222, subparts A and C. This information must be collected on an individual basis, and similar information is not available from any other source.

The information collected on these seven forms is used by the Forest Service in administering the grazing program on NFS lands. Each of these forms is designed to address a unique management circumstance.

FS-2200-1: Refund, Credit, or Transfer Application. This form collects information provided by grazing permittees when requesting a refund, credit, or transfer of any unused portion of previously paid grazing fees. The agency uses the information to determine the appropriate response to the permittee's request, as well as determine the amount of refund, credit, or transfer of the grazing fee. Authority for the request of this information is 36 CFR 222.50(i).

FS-2200-2: Application for Temporary Grazing or Livestock Use Permit; FS-2200-16: Application for Term Grazing Permit; and FS-2200-17: Application for Term Private Land Grazing Permit. These forms are similar in that much of the same information is requested, but each form is specifically designed for a different type of grazing permit as authorized in 36 CFR 222.3(c). Use of a specific form is based on the type of permit being requested. The appropriate forms are completed by the applicant. Information from the completed forms is used to determine qualifications and eligibility of an applicant for a permit, to issue the appropriate permit, and to bill the permittee for grazing fees.

FS-2200-12: Waiver of Term Grazing Permit. This form is completed when a permittee waives his/her grazing privileges back to the United States and also identifies the purchaser of the permitted livestock and/or base property associated with the permit. The Forest service uses this information to cancel an existing grazing permit, to identify the preferred permit applicant based on the purchase of permitted livestock and/or base property, and to issue a subsequent grazing permit. This information is requested under the authority of 36 CFR 222.3(c)(1)(vi)(F).

FS-2200-13: Escrow Waiver of Term Grazing Permit Privileges. This form is completed when a permittee requests the use of permitted livestock or base property associated with a grazing permit as collateral security for a loan. The agency uses this information to identify a lien holder so that in the event of default on the loan the grazing permit can be transferred to the lien holder. Escrow waiver provisions and procedures are acknowledged in the February 10, 1938, Memorandum of Understanding between the Department of Agriculture and the Farm Credit Administration and the subsequent December 21, 1990, Memorandum of Understanding between the Forest Service and the Farm Credit Banks. Authority for requesting this information is 36 CFR 222.3(c)(1)(vi)(F).

FS-2200-25: Ownership Statement by Corporation or Partnership. This information is provided by the permittee and used by the Forest Service to identify the corporate or partnership interest in a grazing permit. This information allows the Forest Service to issue grazing permits in consideration of the permitttee's corporate and partnership interests. Authority for this information request is 36 CFR 222.3(c).

The forms will be completed by new applicants requesting grazing use, existing permit holders (permittees) requesting a specific program administration action, or prior permit holders requesting a new permit. Respondents include individuals, partnerships, corporations, associations, and other private entities. These forms will be obtained from agency offices in person or by mail and will be completed in situations of both face to face settings with agency personnel, as well as the applicant completing the forms alone. Frequency of use for each form would be annually or less. Without the information supplied, the Forest Service can not determine if applicants are eligible for grazing permits and properly administer the grazing program, including fee collection. The completed forms are maintained in Forest Service District offices under the care of the range program administrator.

Estimate of Annual Burden:

(1) FS-2200-1 Refund, Credit or Transfer Application: 20 minutes.

(2) FS-2200-2 Application for Temporary Grazing or Livestock Use Permit: 20 minutes.

(3) FS-2200-12 Waiver of Term Grazing Permit: 20 minutes.

(4) FS-2200-13 Escrow Waiver of Term Grazing Permit Privileges: 20 minutes.

(5) FS-2200-16 Application for Term Grazing Permit: 30 minutes.

(6) FS-2200-17 Application for Term Private Land Grazing Permit: 20 minutes.

(7) FS-2200-25 Ownership Statement by Corporation or Partnership: 20 minutes.

Type of Respondents: Grazing permittees; applicants seeking short-term grazing privileges; grazing permittees seeking to relinquish their grazing permits in favor of individuals who have acquired their base property and/or permitted livestock; individual grazing permittees who mortgage their base property and/or permitted livestock; individuals applying for a term grazing permit or term private land grazing permit; or corporations or partnerships applying for a grazing permit.

Estimated Annual Number of Respondents: 4,920.

Estimated Total Annual Burden on Respondents: 2300 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated , electronic, mechanical, or other technological collection techniques or other forms of information technology.

Dated: November 11, 2005.
Frederick Norbury,
Associate Deputy Chief, National Forest System.

[FR Doc. 05-23050 Filed 11-21-05; 8:45 am]

BILLING CODE 3410-11-P